DEPARTMENT OF DEFENSE

Department of the Army

Updated Record of Decision (ROD) for Revised Army Growth and Force; Structure Realignment Decisions

AGENCY: Department of the Army, DoD.

ACTION: Notice of availability (NOA).

SUMMARY: The Department of the Army announces the availability of an updated ROD for Army Growth and Force Structure Realignment. This ROD explains that the Army has modified previous decisions made in December 2007 to support Army growth and force structure realignment. The Army's decision at the time grew the Army by six Infantry Brigade Combat Teams (IBCTs), eight active component support brigades, and associated growth in smaller combat support and combat service support units required to complement the U.S. Army's overall force structure growth. The decision also relocated two Heavy Brigade Combat Teams (HBCTs) from Europe to the continental United States. This updated ROD details how the Army has modified growth and realignment decisions to better meet operational mission requirements. Specifically, the original decision is being modified by this updated ROD in the following ways:

• Army growth is stopped at 45 active component BCTs instead of 48;

• One IBCT has been established as the 43rd BCT at Fort Carson, CO;

• The 44th BCT has been activated at Fort Bliss, TX; and

• The 45th BCT was established at Fort Stewart, GA, as an IBCT.

• The Army will not stand up new growth IBCTs at Fort Bliss, TX; Fort Stewart, GA; or Fort Carson, CO in 2011 as was originally announced in the 2007 ROD. In place of these BCTs, the Army will establish additional combat support units at locations across the Army to better meet mission requirements and man units for upcoming deployments.

• The Army will convert a Heavy Brigade Combat Team (HBCT) (the 1st Brigade of the 1st Armored Division (1/1 AD)) to a Stryker Brigade Combat Team (SBCT) beginning in 2011 at Fort Bliss, TX. This conversion involves the stationing of approximately 450 additional Soldiers and their equipment at Fort Bliss.

• An HBCT will no longer be returning from Germany to White Sands Missile Range in fiscal year 2013. The stationing of HBCTs currently assigned to Germany will be reassessed in light of the Army's global mission requirements.

These modifications to the original Grow the Army decision will better allow the Army to respond to security threats in an unpredictable global security environment.

ADDRESSES: A request for copy of the ROD can be sent to the Public Affairs Office, U.S. Army Environmental Command, Building E4460, Attention: IMAE-PA, 5179 Hoadley Road, Aberdeen Proving Ground, MD 21010-5401.

FOR FURTHER INFORMATION CONTACT: LTC David Patterson, Media Relations Division, Office of the Chief of Public Affairs, at (703) 697-7592.

SUPPLEMENTARY INFORMATION: In January 2007, the President asked Congress for authority to increase the overall strength of the Army by 74,200 Soldiers over the next five years. This growth was intended to mitigate shortages in units, Soldiers, and time to train that would otherwise inhibit the Army from meeting readiness goals and supporting strategic requirements. The Department of the Army prepared a Programmatic Environmental Impact Statement (PEIS) that evaluated the potential environmental and socioeconomic effects associated with alternatives for Army growth and realignment. In the Final PEIS (published on October 26, 2007), the Army identified Alternative 3 as the preferred alternative. Alternative 3 (adds combat support and combat service support units, as well as Army BCTs to the Army's force structure) remains the Army's preferred alternative with the modification to the Army's ROD.

The Final PEIS examined major Army installations within the continental United States and their ability to support new unit stationing actions in connection with growth and realignment. The Final PEIS provided the Army senior leader-ship with an assessment of environmental and socioeconomic impacts that would be associated with these actions in addition to the feedback and concerns of the public. This information was considered as part of the decision-making process for decisions contained in the updated ROD (2010).

The conversion of an HBCT to an SBCT at Fort Bliss, TX will create the Army's 7th active component SBCT. The Army's needs are best met by transforming an HBCT at Fort Bliss as this unit will have maximum time to implement conversion to an SBCT and train with new equipment prior to the need to redeploy. In addition, Fort Bliss is capable of providing the SBCT with fully modernized training and garrison infrastructure; and the installation has adequate maneuver space to accommodate the conversion to an SBCT.

The updated ROD determines that Supplemental NEPA documentation is not required because there are no substantial changes or new circumstances in the proposed action causing any significant new environmental concerns. The adjustments to stationing decisions result in small proportional gains to the Soldier populations of affected installations and are not anticipated to cause any new environmental impacts that are not already addressed in the 2007 EIS.

A copy of the updated ROD and Final PEIS are available at http://aec.army.mil/usaec/nepa/topics00.html.

Dated: June 11, 2010.
Hew E. Wolfe,
Principal Assistant to the Deputy Assistant Secretary of the Army, Environment, Safety and Occupational Health.

[FR Doc. 2010-14734 Filed 6-17-10; 8:45 am]

BILLING CODE 3710-08-P